Proclamation 7730 of October 31, 2003

National Family Caregivers Month, 2003

By the President of the United States of America

A Proclamation

Millions of Americans make extraordinary efforts every day to care for loved ones who are elderly, chronically ill, or disabled. These caregivers make many sacrifices to improve the lives of their loved ones. Through their love, dedication, and courage, these compassionate children, parents, spouses, grandparents, and extended family members strengthen and preserve the importance of family and reflect the true character of our Nation.

My Administration is supporting family caregivers in their efforts to provide comfort and support to their loved ones. The National Family Caregiver Support Program, managed by the Administration on Aging of the Department of Health and Human Services, gives family caregivers counseling, information, respite care, and supplemental services.

As we mark National Family Caregivers Month, we express our gratitude to family caregivers, and celebrate the great blessings they bring to their families and to our Nation.

NOW, THEREFORE, I, GEORGE W. BUSH, President of the United States of America, by virtue of the authority vested in me by the Constitution and laws of the United States, do hereby proclaim November 2003 as National Family Caregivers Month. I encourage all Americans to honor and support family members, friends, and neighbors who assume important caregiving responsibilities.

IN WITNESS WHEREOF, I have hereunto set my hand this thirty-first day of October, in the year of our Lord two thousand three, and of the Independence of the United States of America the two hundred and twenty-eighth.

B

[FR Doc. 03-28003

Filed 11-4-03; 8:45 am]

Billing code 3195-01-P